DEPARTMENT OF COMMERCE

15 CFR Part 14

[Docket No. 980422101-1224-03]

RIN 0605-AA09

Uniform Administrative Requirements for Grants and Agreements With Institutions of Higher Education, Hospitals, Other Non-Profit, and Commercial Organizations

AGENCY: Chief Financial Officer and Assistant Secretary for Administration, Department of Commerce (DoC).

ACTION: Final rule.

SUMMARY: This final rule amends the DoC interim final rule on grants administration which implements Office of Management and Budget (OMB) Circular A-110. This final rule allows recipients to transfer funds among direct cost categories for awards in which the Federal share of the project is $100,000 or less. Also, this rule makes a correction to the language concerning disclosure requirements under the Byrd Anti-Lobbying Amendment and it updates language and provisions as a result of changes to law.

EFFECTIVE DATE: This final rule is effective October 1, 2001.

FOR FURTHER INFORMATION CONTACT: Elizabeth L. Dorfman, Office of Executive Assistance Management, U.S. Department of Commerce, 14th Street and Constitution Avenue, N.W., Room HCHB 6022, Washington, DC 20230, 202-482-4115, e-mail: EDorfman@doc.gov.

SUPPLEMENTARY INFORMATION: On September 4, 1998, DoC published an interim final rule (63 FR 47155) adopting the provisions of the Office of Management and Budget Circular A-110, “Uniform Administrative Requirements for Grants and Cooperative Agreements With Institutions of Higher Education, Hospitals, and Other Non-Profit Organizations.” Changes made by the interim final rule were not intended to deviate from the substance of Circular A-110. However, the interim final rule made minor changes to update the procedures, clarify the language, and make the language apply specifically to DoC and its operating units. The interim final rule is codified at 15 CFR part 14.

This rule amends the interim final rule to incorporate a change requested through public notice and comment. This final rule is not subject to the rulemaking requirements of 5 U.S.C. 553 because it relates to public property, loans, grants, benefits, and contracts, 5 U.S.C. 553(c)(2), including the provision of prior notice and an opportunity for public comment and delayed effective date. No other law requires that notice and opportunity for comment be given for this rule. However, given the nature of OMB Circular A-110 as a common rule, the DoC accepted comments from interested parties in an effort to ensure consistency.

DoC received comments from five colleges and universities concerning the DoC requirement for prior approval on any rebudgeting request that exceeds 10 percent of program costs for all awards, including those awards of $100,000 or less. Each of the institutions objected to the provision that recipients may not transfer funds among direct cost categories or programs, functions and activities for awards in which the cumulative amount of such transfers exceeds or is expected to exceed 10 percent of the total budget as last approved. All comments received were considered in developing these final amendments.

As stipulated at 15 CFR 14.25(f), the DoC interim final rule requires prior approval on budget revisions exceeding 10 percent for all awards regardless of the amount of Federal funding. DoC continues to take steps toward improving its program delivery, policies and procedures, and to be more responsive to those whom it serves. This final rule revises 15 CFR 14.25(f) to require prior approval for awards in which the Federal share of the project exceeds $100,000. In addition, the final rule makes clear that the 10 percent threshold applies to the total Federal and non-Federal funds authorized by the Grants Officer at the time of the transfer request. This is the accumulated amount of Federal funding obligated by the Grants Officer along with any approved non-Federal share.

In addition to making changes requested by the public, this final rule updates language and provisions. The phrase “small purchase threshold” is changed to “simplified acquisition threshold” throughout the document in order to be consistent with section 4(11) of the Office of Federal Procurement Policy Act, 41 U.S.C. 403(11), as amended by section 4001 of the Federal Acquisition Streamlining Act of 1994, Public Law 103-355. In addition, Appendix A is updated in accordance with the Federal Acquisition Streamlining Act of 1994, Public Law 103-355, which raised the threshold to $100,000 for the requirement to include the provision for compliance with sections 102 and 107 of the Contract Work Hours and Safety Standards Act (40 U.S.C. 327-333). Finally, Appendix A is corrected to reflect that the disclosure requirements under the Byrd Anti-Lobbying Amendment, 31 U.S.C. 1352, apply to organizations that apply or bid for an award exceeding $100,000 (not $100,000 or more).

Executive Order 12866

This notice has been determined to be “not significant” for purposes of Executive Order 12866, “Regulatory Planning and Review.”

Regulatory Flexibility Act

Because notice and comment are not required under 5 U.S.C. 553 or any other law for this rule relating to public property, loans, grants benefits or contracts (5 U.S.C. 553(a)), a Regulatory Flexibility Analysis is not required and has not been prepared.

Executive Order 13132 (Federalism)

It has been determined that this notice does not contain policies with Federalism implications as that term is defined in Executive Order 13132.

Paperwork Reduction Act

This rule does not impose any new reporting or recordkeeping requirements under the Paperwork Reduction Act. Reporting and recordkeeping requirements in 15 CFR Part 14 are those required by OMB Circular A-110 and have already been cleared by OMB.

Catalog of Federal Domestic Assistance

This rule affects all of the grant and cooperative agreement programs with institutions of higher education, hospitals, other non-profit, and commercial organizations administered by DoC.

List of Subjects in 15 CFR Part 14

Accounting, Administrative practice and procedure, Colleges and universities, Grants administration, Grant programs—economic development, Grant programs—oceans and atmosphere, Grant programs—minority businesses, Grant programs—technology, Grant programs—telecommunications, Grant programs—international, Hospitals, Nonprofit organizations, Reporting and recordkeeping requirements.

Approved: September 26, 2001.
Robert F. Kugelman,
Director, Office of Executive Budgeting and Assistance Management, Department of Commerce.

Accordingly, the interim final rule adding Part 14 of Title 15 of the Code of Federal Regulations, which was published at 63 FR 47155 on September 4, 1998, is adopted as final, with the following changes:

PART 14—UNIFORM ADMINISTRATIVE REQUIREMENTS FOR GRANTS AND AGREEMENTS WITH INSTITUTIONS OF HIGHER EDUCATION, HOSPITALS, OTHER NON-PROFIT, AND COMMERCIAL ORGANIZATIONS

1. The authority citation for part 14 continues to read as follows:

Authority: 5 U.S.C. 301; OMB Circular A-110 (64 FR 54926, October 8, 1999).

2. Part 14 is amended by removing the phrase “small purchase threshold” and adding “simplified acquisition threshold” in its place wherever it occurs.

3. Section 14.25 is amended by revising paragraph (f) to read as follows:

§ 14.25 Revision of budget and program plans.

* * * * *

(f) The recipient may not transfer funds among direct cost categories or programs, functions and activities for awards in which the Federal share of the project exceeds $100,000 and the cumulative amount of such transfers exceeds or is expected to exceed 10 percent of the total Federal and non-Federal funds authorized by the Grants Officer. This does not prohibit the recipient from requesting Grants Officer approval for revisions to the budget. No transfers are permitted that would cause any Federal appropriation or part thereof to be used for purposes other than those consistent with the original intent of the appropriation.

* * * * *

4. Appendix A to part 14 is amended by revising paragraphs 4 and 7 to read as follows:

Appendix A to Part 14—Contract Provisions

* * * * *

4. Contract Work Hours and Safety Standards Act (40 U.S.C. 327-333)—Where applicable, all contracts awarded by recipients exceeding $100,000 for construction contracts and for other contracts that involve the employment of mechanics or laborers shall include a provision for compliance with Sections 102 and 107 of the Contract Work Hours and Safety Standards Act (40 U.S.C. 327-333), as supplemented by Department of Labor regulations (29 CFR Part 5). Under Section 102 of the Act, each contractor shall be required to compute the wages of every mechanic and laborer on the basis of a standard work week of 40 hours. Work in excess of the standard work week is permissible provided that the worker is compensated at a rate of not less than 1½ times the basic rate of pay for all hours worked in excess of 40 hours in the work week. Section 107 of the Act is applicable to construction work and provides that no laborer or mechanic shall be required to work in surroundings or under working conditions which are unsanitary, hazardous or dangerous. These requirements do not apply to the purchases of supplies or materials or articles ordinarily available on the open market, or contracts for transportation or transmission of intelligence.

* * * * *

7. Byrd Anti-Lobbying Amendment (31 U.S.C. 1352)—Contractors who apply or bid for an award exceeding $100,000 shall file the required certification. Each tier certifies to the tier above that it will not and has not used Federal appropriated funds to pay any person or organization for influencing or attempting to influence an officer or employee of any agency, a member of Congress, officer or employee of Congress, or an employee of a member of Congress in connection with obtaining any Federal contract, grant or any other award covered by 31 U.S.C. 1352. Each tier shall also disclose any lobbying with non-Federal funds that takes place in connection with obtaining any Federal award. Such disclosures are forwarded from tier to tier up to the recipient.

* * * * *

[FR Doc. 01-24514 Filed 9-28-01; 8:45 am]

BILLING CODE 3510-FA-P